DEPARTMENT OF LABOR

Occupational Safety and Health Administration

[Docket No. OSHA-2006-0029]

Wyle Laboratories, Inc.; Revocation of Recognition

AGENCY: Occupational Safety and Health Administration (OSHA), Labor.

ACTION: Notice.

SUMMARY: This notice announces the Occupational Safety and Health Administration's decision to revoke the recognition of Wyle Laboratories, Inc. (Wyle) as a Nationally Recognized Testing Laboratory under 29 CFR 1910.7.

DATES: The revocation became effective on August 24, 2011.

FOR FURTHER INFORMATION CONTACT: MaryAnn Garrahan, Acting Director, Office of Technical Programs and Coordination Activities, NRTL Program, Occupational Safety and Health Administration, U.S. Department of Labor, 200 Constitution Avenue, NW., Room N-3655, Washington, DC 20210, or phone (202) 693-2110. For information about the Nationally Recognized Testing Laboratory Program, go to http://www.osha.gov, and select “N” in the site index.

SUPPLEMENTARY INFORMATION:

Notice of Final Decision

The Occupational Safety and Health Administration (OSHA) is giving notice of the revocation of recognition of Wyle Laboratories, Inc. (Wyle) as a Nationally Recognized Testing Laboratory (NRTL). OSHA took this action following the requirements under subsection II.E of Appendix A to 29 CFR 1910.7 (“subsection E”).

OSHA recognition of an NRTL signifies that the organization meets the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

Subsection E describes the process that OSHA must use in revoking the recognition of an NRTL. This subsection sets forth three potential causes of revocation. In the event any cause applies, OSHA provides the NRTL with the opportunity to correct or rebut the alleged deficiencies leading to the proposed revocation. If the NRTL does not correct or reconcile alleged deficiencies, OSHA will propose, in writing, revocation of recognition. Revocation becomes effective in 60 days, unless the NRTL corrects the deficiency or requests a hearing before an Administrative Law Judge on the revocation action. Wyle did not request such a hearing.

OSHA followed the process set forth in subsection E and is revoking Wyle's recognition as an NRTL. OSHA identified deficiencies in Wyle's testing and certification operations that Wyle did not correct. OSHA determined that, as a result of these deficiencies, Wyle failed to substantially satisfy the requirements of 29 CFR 1910.7 and Appendix A, which is a cause for revocation under OSHA's NRTL Program regulations. OSHA already notified Wyle of the revocation decision, which is final. The DATES section above provides the effective date of revocation. Consequently, the Agency no longer accepts product certifications made by Wyle on or after this effective date.

All public documents pertaining to the Wyle's recognition are available for review by contacting the Docket Office, Occupational Safety and Health Administration, U.S. Department of Labor, 200 Constitution Avenue, NW., Room N-2625, Washington, DC 20210. These materials also are available online at http://www.regulations.gov under Docket No. OSHA-2006-0029.

Authority and Signature

David Michaels, PhD, MPH, Assistant Secretary of Labor for Occupational Safety and Health, 200 Constitution Avenue, NW., Washington, DC 20210, authorized the preparation of this notice. Accordingly, the Agency is issuing this notice pursuant to Sections 6(b) and 8(g) of the Occupational Safety and Health Act of 1970 (29 U.S.C. 655 and 657), Secretary of Labor's Order No. 4-2010 (75 FR 55355), and 29 CFR part 1911.

Signed at Washington, DC on September 2, 2011.
David Michaels,
Assistant Secretary of Labor for Occupational Safety and Health.

[FR Doc. 2011-22955 Filed 9-7-11; 8:45 am]

BILLING CODE 4510-26-P